DEPARTMENT OF DEFENSE

Defense Acquisition Regulations System

48 CFR Parts 204, 208, 209, 211, 212, 213, 216, 225, 227, 232, 236, 241, 246, and 252

[Docket DARS-2022-0001]

Defense Federal Acquisition Regulation Supplement: Technical Amendments

AGENCY: Defense Acquisition Regulations System, Department of Defense (DoD).

ACTION: Final rule.

SUMMARY: DoD is making technical amendments to the Defense Federal Acquisition Regulation Supplement (DFARS) to provide needed editorial changes.

DATES: Effective March 17, 2022.

FOR FURTHER INFORMATION CONTACT: Ms. Jennifer D. Johnson, telephone 571-372-6100.

SUPPLEMENTARY INFORMATION: This final rule makes the following changes:

1. Updates office designations and a hyperlink at DFARS 204.604 and 232.1004.

2. Updates hyperlinks at: DFARS 204.7302, 208.602-70, 213.301, 225.7003-2, 252.204-7019, 252.204-7020, 252.211-7003, and 252.211-7007.

3. Removes obsolete text at DFARS 209.104-1, paragraph (g)(i). The final rule for DFARS Case 2014-D014, published at 79 FR 73488, revised section 209.104-1, paragraph (g)(i), because the coverage was relocated to DFARS subpart 225.7. Several subordinate paragraphs to paragraph (g)(i) that should have been removed at that time were inadvertently retained in the Code of Federal Regulations (CFR). This technical amendment corrects that error and removes the obsolete text at DFARS 209.104-1, paragraphs (g)(i)(1) and (2), from the eCFR.

4. Reinstates DFARS subpart 211.70 and section 211.7001, which points to procedures provided in DFARS Procedures, Guidance, and Information (PGI) 211.7001.

5. DFARS 212.207(b)(i), adds a missing parenthesis.

6. DFARS 216.402-2(2)(ii), corrects a typographical error in the electronic Code of Federal Regulations.

7. DFARS 225.7700(e), corrects a typographical error in a statutory section reference.

8. DFARS 241.102(b)(7)(C), updates a statutory reference pursuant to the National Defense Authorization Act for Fiscal Year 2006 (section 2851, Pub. L. 109-364).

9. DFARS 246.870-2, removes obsolete language. The final rule was published at 81 FR 72738 to amend DFARS 246.870-2(a)(2) introductory text by removing “(b)(3)(ii) through (b)(3)(iv)” and adding “(b)(3)(ii)” in its place, but DFARS 204.870-2 was referenced instead of DFARS 246.870-2. According to a CFR Editorial Note, the change is not reflected in the Code of Federal Regulations due to inaccurate amendatory instruction. This rule provides the correct amendatory instruction.

10. DFARS 252.225-7013, updates an updated mailing address at paragraph (e)(2)(iv)(A).

11. Updates statutory redesignations made by the National Defense Authorization Act for Fiscal Year 2019 (Pub. L. 115-232):

• Section 808(b)(12) redesignates 10 U.S.C. 7317 as 10 U.S.C. 8687 at DFARS 212.301, 227.7100, 227.7102-1, 227.7103-1, 252.227-7013, and 252.227-7015; and

• Section 808(d) redesignates 10 U.S.C. 4540 as 10 U.S.C. 7540 and section 807(d)(1) redesignates 10 U.S.C. 7212 as 10 U.S.C. 8612 at DFARS 236.606-70.

List of Subjects in 48 CFR Parts 204, 208, 209, 211, 212, 213, 216, 225, 227, 232, 236, 241, 246, and 252

Government procurement.

Jennifer D. Johnson,
Editor/Publisher, Defense Acquisition Regulations System.

Therefore, 48 CFR parts 204, 208, 209, 211, 212, 213, 216, 225, 227, 232, 236, 241, 246, and 252 are amended as follows:

PART 204—ADMINISTRATIVE AND INFORMATION MATTERS

1. The authority citation for 48 CFR part 204 continues to read as follows:

Authority: 41 U.S.C. 1303 and 48 CFR chapter 1.

2. Amend section 204.604 by revising paragraph (3) to read as follows:

204.604 Responsibilities.

* * * * *

(3) By December 15th of each year, the chief acquisition officer of each DoD component required to report its contract actions shall submit to the Principal Director, Defense Pricing and Contracting, its annual certification and data validation results for the preceding fiscal year in accordance with the DoD Data Improvement Plan requirements at https://www.acq.osd.mil/asda/dpc/ce/cap/index.html. The Principal Director, Defense Pricing and Contracting, will submit a consolidated DoD annual certification to the Office of Management and Budget by January 5th of each year.

204.7302 [Amended]

3. Amend section 204.7302 in paragraph (a)(3) by removing “https://www.acq.osd.mil/dpap/pdi/cyber/strategically_assessing_contractor_implementation_of_NIST_SP_800-171.html” and adding “https://www.acq.osd.mil/asda/dpc/cp/cyber/safeguarding.html#nistSP800171” in its place.

PART 208—REQUIRED SOURCES OF SUPPLIES AND SERVICES

4. The authority citation for 48 CFR part 208 continues to read as follows:

Authority: 41 U.S.C. 1303 and 48 CFR chapter 1.

208.602-70 [Amended]

5. Amend section 208.602-70 in paragraph (b) by removing “http://www.acq.osd.mil/dpap/cpic/cp/specific_policy_areas.html#federal_prison” and adding “https://www.acq.osd.mil/asda/dpc/cp/policy/other-policy-areas.html#fpi” in its place.

PART 209—CONTRACTOR QUALIFICATIONS

6. The authority citation for 48 CFR part 209 continues to read as follows:

Authority: 41 U.S.C. 1303 and 48 CFR chapter 1.

7. Amend section 209.104-1 by—

a. Revising paragraph (g)(i); and

b. Removing paragraphs (g)(i)(1) introductory text, (g)(i)(1)(i) and (ii), (g)(i)(2), and (g)(i)(B) and (C).

The revision reads as follows:

209.104-1 General standards.

* * * * *

(g)(i) Ownership or control by the government of a country that is a state sponsor of terrorism. See 225.771.

* * * * *

PART 211—DESCRIBING AGENCY NEEDS

8. The authority citation for 48 CFR part 211 is revised to read as follows:

Authority: 41 U.S.C. 1303 and 48 CFR chapter 1.

9. Add subpart 211.70 to read as follows:

SUBPART 211.70—PURCHASE REQUESTS

211.7001 Procedures.

Follow the procedures at PGI 211.7001 for developing and distributing purchase requests, except for the requirements for Military Interdepartmental Purchase Requests (DD Form 448) addressed in 253.208-1.

PART 212—ACQUISITION OF COMMERCIAL ITEMS

10. The authority citation for 48 CFR part 212 continues to read as follows:

Authority: 41 U.S.C. 1303 and 48 CFR chapter 1.

212.207 [Amended]

11. Amend section 212.207 in paragraph (b)(i) by removing “(41 U.S.C. 103” and adding “(41 U.S.C. 103)” in its place.

212.301 [Amended]

12. Amend 212.301 in paragraphs (f)(xi)(A) and (B) by removing “10 U.S.C. 7317” and adding “10 U.S.C. 8687” in its place.

PART 213—SIMPLIFIED ACQUISITION PROCEDURES

13. The authority citation for 48 CFR part 213 continues to read as follows:

Authority: 41 U.S.C. 1303 and 48 CFR chapter 1.

213.301 [Amended]

14. Amend section 213.301 in paragraph (4) by removing “https://www.acq.osd.mil/dpap/pdi/pc/policy_documents.html” and adding “https://www.acq.osd.mil/asda/dpc/ce/pc/docs-guides.html” in its place.

PART 216—TYPES OF CONTRACTS

15. The authority citation for 48 CFR part 216 continues to read as follows:

Authority: 41 U.S.C. 1303 and 48 CFR chapter 1.

216.402-2 [Amended]

16. Amend section 216.402-2 in paragraph (2)(ii) by removing “faile” and adding “failure” in its place.

PART 225—FOREIGN ACQUISITION

17. The authority citation for 48 CFR part 225 continues to read as follows:

Authority: 41 U.S.C. 1303 and 48 CFR chapter 1.

18. Amend section 225.7003-2 by—

a. Designating the introductory text as paragraph (a);

b. Further redesignating newly redesignated paragraph (a)(1)(a) introductory text as as paragraph (a)(1) introductory text; and

c. Revising paragraph (b).

The revision reads as follows:

225.7003-2 Restrictions.

* * * * *

(b) For more information on specialty metals restrictions and reporting of noncompliances, see https://www.acq.osd.mil/asda/dpc/cp/ic/specialty-metals-restrictions.html.

225.7700 [Amended]

19. Amend section 227.7700 in paragraph (e) by removing “Section 216” and adding “Section 1216” in its place.

PART 227—PATENTS, DATA, AND COPYRIGHTS

20. The authority citation for 48 CFR part 227 continues to read as follows:

Authority: 41 U.S.C. 1303 and 48 CFR chapter 1.

227.7100 [Amended]

21. Amend section 227.7100 in paragraph (a)(6) by removing “10 U.S.C. 7317” and adding “10 U.S.C. 8687” in its place.

227.7102-1 [Amended]

22. Amend section 227.7102-1 in paragraph (c) by removing “10 U.S.C. 7317” and adding “10 U.S.C. 8687” in its place.

227.7103-1 [Amended]

23. Amend section 227.7103-1 in paragraph (g) by removing “10 U.S.C. 7317” and adding “10 U.S.C. 8687” in its place.

PART 232—CONTRACT FINANCING

24. The authority citation for 48 CFR part 232 continues to read as follows:

Authority: 41 U.S.C. 1303 and 48 CFR chapter 1.

25. Amend section 232.1004 by revising paragraph (b)(ii) introductory text to read as follows:

232.1004 Procedures.

(b) * * *

(ii) The contracting officer shall analyze the performance-based payment schedule using the performance-based payments (PBP) analysis tool. The PBP analysis tool is on the DPC website in the Price, Cost and Finance section. The PBP analysis tool and Performance Based Payments Guidebook are available at https://www.acq.osd.mil/asda/dpc/pcf/pricing-topics.html#pdp.

* * * * *

PART 236—CONSTRUCTION AND ARCHITECT-ENGINEER CONTRACTS

26. The authority citation for 48 CFR part 236 continues to read as follows:

Authority: 41 U.S.C. 1303 and 48 CFR chapter 1.

236.606-70 [Amended]

27. Amend section 236.606-70 in paragraph (a) by removing “10 U.S.C. 4540, 7212,” and adding “10 U.S.C. 7540, 8612,” in its place.

PART 241—ACQUISITION OF UTILITY SERVICES

28. The authority citation for 48 CFR part 241 is revised to read as follows:

Authority: 41 U.S.C. 1303 and 48 CFR chapter 1.

241.102 [Amended]

29. Amend section 241.102 in paragraph (b)(7)(C) by removing “10 U.S.C. 2689” and adding “10 U.S.C. 2917” in its place.

PART 246—QUALITY ASSURANCE

30. The authority citation for 48 CFR part 246 continues to read as follows:

Authority: 41 U.S.C. 1303 and 48 CFR chapter 1.

31. Amend section 246.870-2 by revising paragraph (a)(2) introductory text to read as follows:

246.870-2 Policy.

(a) * * *

(2) The Government requires contractors and subcontractors to comply with the notification, inspection, testing, and authentication requirements of paragraph (b)(3)(ii) of the clause at 252.246-7008, Sources of Electronic Parts, if the contractor—

* * * * *

32. The authority citation for 48 CFR part 252 continues to read as follows:

Authority: 41 U.S.C. 1303 and 48 CFR chapter 1.

252.204-7019 [Amended]

33. Amend section 252.204-7019 by—

a. Removing the clause date of “(NOV 2020)” and adding “(MAR 2022)” in its place; and

b. In paragraph (b), removing “https://www.acq.osd.mil/dpap/pdi/cyber/strategically_assessing_contractor_implementation_of_NIST_SP_800-171.html” and adding “https://www.acq.osd.mil/asda/dpc/cp/cyber/safeguarding.html#nistSP800171” in its place.

252.204-7020 [Amended]

34. Amend section 252.204-7020 by—

a. Removing the clause date of “(NOV 2020)” and adding “(MAR 2022)” in its place; and

b. In paragraphs (c) and (g)(2), removing “https://www.acq.osd.mil/dpap/pdi/cyber/strategically_assessing_contractor_implementation_of_NIST_SP_800-171.html” and adding “https://www.acq.osd.mil/asda/dpc/cp/cyber/safeguarding.html#nistSP800171” in its place.

252.211-7003 [Amended]

35. Amend section 252.211-7003 by—

a. Removing the clause date of “(MAR 2016)” and adding “(MAR 2022)” in its place; and

b. In paragraph (a):

i. In the definition of “DoD recognized unique identification equivalent”, removing “http://www.acq.osd.mil/dpap/pdi/uid/iuid_equivalents.html” and adding “https://www.acq.osd.mil/asda/dpc/ce/ds/unique-id.html” in its place; and

ii. In the definition of “Unique item identifier type”, removing “http://www.acq.osd.mil/dpap/pdi/uid/uii_types.html” and adding “https://www.acq.osd.mil/asda/dpc/ce/ds/unique-id.html” in its place.

252.211-7007 [Amended]

36. Amend section 252.211-7007 by—

a. Removing the clause date “(AUG 2012)” and adding “(MAR 2022)” in its place; and

b. In paragraph (f), removing “http://www.acq.osd.mil/dpap/pdi/uid/data_submission_information.html” and adding “https://dodprocurementtoolbox.com/cms/sites/default/files/resources/2021-09/GFP%20Reporting%20Guide_Vendors_June%202018.pdf” in its place.

37. Amend section 252.225-7013 by—

a. Revising the section heading;

b. Removing the clause date “(APR 2020)” and adding “(MAR 2022)” in its place; and

c. Revising paragraph (e)(2)(iv)(A).

The revision reads as follows:

252.225-7013 Duty-Free Entry.

* * * * *

(e) * * *

(2) * * *

(iv)(A) For direct shipments to a U.S. military installation, the notation: “UNITED STATES GOVERNMENT, DEPARTMENT OF DEFENSE Duty-Free Entry to be claimed pursuant to Section XXII, Chapter 98, Subchapter VIII, Item 9808.00.30 of the Harmonized Tariff Schedule of the United States. Upon arrival of shipment at the appropriate port of entry, District Director of Customs, please release shipment under 19 CFR part 142 and notify Commander, Defense Contract Management Agency (DCMA), St. Louis, MO, ATTN: Duty Free Entry Team, 1222 Spruce Street, Room 9.300, St. Louis, MO 63103-2812, for execution of Customs Form 7501, 7501A, or 7506 and any required duty-free entry certificates.”

* * * * *

252.227-7013 [Amended]

38. Amend section 252.227-7013 in the Alternate II clause by—

a. Removing the clause date “(MAR 2011)” and adding “(MAR 2022)” in its place; and

b. In paragraph (a)(17), removing “10 U.S.C. 7317” and adding “10 U.S.C. 8687” in its place.

252.227-7015 [Amended]

39. Amend section 252.227-7015 in the Alternate I clause by—

a. Removing the clause date “(DEC 2011)” and adding “(MAR 2022)” in its place; and

b. In paragraph (a)(6), removing “10 U.S.C. 7317” and adding “10 U.S.C. 8687” in its place.

[FR Doc. 2022-05535 Filed 3-17-22; 8:45 am]

BILLING CODE 5001-06-P